DEPARTMENT OF LABOR

Employment and Training Administration

[TA-W-39,372]

Rockwell Collins Passenger Systems Pomona, CA; Notice of Termination of Investigation

Pursuant to section 221 of the Trade Act of 1974, and investigation was initiated on June 4, 2001, in response to a petition filed by a company official on behalf of workers at Rockwell Collins, Passenger Systems, Pomona, California.

The petition group of workers is subject to an ongoing investigation for which a determination has not yet been issued (TA-W-39,179). Consequently, further investigation in this case would serve no purpose, and the investigation has been terminated.

Signed in Washington, D.C. this 16th day of July, 2001.
Linda G. Poole,
Certifying Officer, Division of Trade Adjustment Assistance.

[FR Doc. 01-18626 Filed 7-25-01; 8:45 am]

BILLING CODE 4510-30-M